DEPARTMENT OF COMMERCE

National Oceanic and Atmospheric Administration

50 CFR Part 648

[Docket No. 220421-0101: RTID 0648-XX078]

Magnuson-Stevens Act Provisions; Fisheries of the Northeastern United States; Northeast Multispecies Fishery; 2022 Allocation of Northeast Multispecies Annual Catch Entitlements

AGENCY: National Marine Fisheries Service (NMFS), National Oceanic and Atmospheric Administration (NOAA), Commerce.

ACTION: Final rule.

SUMMARY: This final rule allocates annual catch entitlements to groundfish sectors for the 2022 fishing year and approves changes to previously approved sector operations plans. This rule also denies four novel sector exemption requests. The action is necessary because sectors must receive allocations in order to operate in fishing year 2022. This action will allow limited access permit holders to continue to operate sectors, and to exempt sectors from certain effort control regulations to improve the efficiency and economics of sector vessels.

DATES: Northeast multispecies annual catch entitlements for sectors are effective May 1, 2022, through April 30, 2023.

ADDRESSES: Copies of each sector's operations plan and contract are available from the NMFS Greater Atlantic Regional Fisheries Office: Contact Claire Fitz-Gerald at Claire.Fitz-Gerald@noaa.gov, Kyle Molton at Kyle.Molton@noaa.gov, or Samantha Tolken at Samantha.Tolken@noaa.gov. These documents are also accessible via the GARFO website. To view these documents and the Federal Register documents referenced in this rule, you can visit: https://www.fisheries.noaa.gov/management-plan/northeast-multispecies-management-plan.

FOR FURTHER INFORMATION CONTACT: Kyle Molton, Fishery Management Specialist, (978) 281-9236.

SUPPLEMENTARY INFORMATION:

Background

The Northeast Multispecies Fishery Management Plan (FMP) defines a sector as “a group of persons holding limited access Northeast multispecies permits who have voluntarily entered into a contract and agree to certain fishing restrictions for a specified period of time, and which has been granted a TAC(s) [sic] in order to achieve objectives consistent with applicable FMP goals and objectives.” A sector must be comprised of at least three Northeast multispecies permits issued to at least three different persons, none of whom have any common ownership interest in the permits, vessels, or businesses associated with the permits issued [to] the other two or more persons in that sector. Sectors are self-selecting, meaning participation is voluntary, and each sector can choose its members.

The Northeast multispecies sector management system annually allocates a portion of the Northeast multispecies stocks to each sector. These annual sector allocations are known as annual catch entitlements (ACE) and are based on the collective fishing history of a sector's members. Sectors may receive allocations of large-mesh Northeast multispecies stocks with the exception of Atlantic halibut, windowpane flounder, Atlantic wolffish, and ocean pout, which are non-allocated species managed under separate effort controls. ACEs are portions of a stock's annual catch limit (ACL) available to commercial Northeast multispecies vessels. A sector determines how to harvest its ACE.

Because sectors elect to receive an allocation under a quota-based system, the FMP grants sector vessels several universal exemptions from the FMP's effort controls. These universal exemptions apply to: Trip limits on allocated stocks; portions of the Gulf of Maine (GOM) Cod Protection Closures; Northeast multispecies days-at-sea (DAS) restrictions; the requirement to use a 6.5-inch (16.5-cm) mesh codend when fishing with selective gear on Georges Bank (GB); and the requirement to use a 6.5-inch (16.5-cm) mesh codend when fishing under the provisions of the Redfish Exemption Program. The FMP allows the Council to add universal exemptions using the framework adjustment procedure. Sectors may request additional exemptions annually as part of their sector operations plans to increase flexibility and fishing opportunities. Sectors are prohibited from requesting exemptions from permitting restrictions, gear restrictions designed to minimize habitat impacts, and most reporting requirements.

In addition to the sectors, there are several state-operated permit banks that each receive an allocation based on the fishing history of permits they hold. The final rule implementing Amendment 17 to the FMP allowed a state-operated permit bank to receive an allocation without needing to comply with sector administrative and procedural requirements (77 FR 16942; March 23, 2012). Instead, permit banks are required to submit a list of permits to NMFS, as specified in the permit bank's Memorandum of Agreement between NMFS and the state. These permits are not assigned to active vessels; instead, the allocations associated with the permits may be leased to vessels enrolled in sectors. State-operated permit banks contribute to the total allocation under the sector system.

We have previously approved 16 sectors to operate in fishing years 2021 and 2022 and also approved 19 requested exemptions for sectors (86 FR 22898; April 30, 2021). Because all approved operations plans cover two fishing years, approved sectors may continue operations and the approved exemptions in fishing year 2022. Copies of the operations plans and contracts, the environmental assessment (EA), and other supporting documents are available at: https://www.fisheries.noaa.gov/species/northeast-multispecies and from NMFS (see ADDRESSES). This action makes 2022 allocations to sectors based on the specifications set by the New England Fishery Management Council in Framework Adjustments 59 and 61 to the FMP. This action also announces default catch limits for two management units which do not have specifications in place for fishing year 2022. This action also approves several changes to already approved sector operations plans and denies four requests for novel sector exemptions.

Catch Limits for Fishing Year 2022

Previously Established and Default Catch Limits

Framework 59 (85 FR 45794; July 30, 2020) and Framework 61 (86 FR 40353; July 28, 2021) to the FMP previously set fishing year 2022 catch limits for all groundfish stocks. However, neither Framework 59 or 61 specified 2022 catch limits for Eastern GB cod or Eastern GB haddock. Eastern GB cod and haddock are management units of the GB cod and GB haddock stocks that NMFS manages jointly with Canada, and the shared quota is set annually.

This year, in Framework 63 to the FMP, the Council adopted new or adjusted fishing year 2022 catch limits for: GOM cod; GB cod; GB haddock; GB yellowtail flounder; and white hake. Framework 63 would set 2022 catch limits for the two U.S./Canada management units (Eastern GB cod and Eastern GB haddock). We have published a proposed rule for Framework 63 (87 FR 23482; April 20, 2022), however, we will not be able to implement Framework 63 measures, if approved, before May 1, 2022.

As a result, the sector and common pool allocations in this rule are based on the 2022 catch limits set in Framework 59 and 61 that will be effective on May 1, 2022 (Table 1), default catch limits for Eastern GB cod and Eastern GB haddock (Table 2), and preliminary 2022 fishing year rosters. If we approve Framework 63, the 2022 catch limits announced in this rule for these stocks will change when Framework 63 measures become effective.

This rule also announces default catch limits for Eastern GB cod, and Eastern GB haddock (Table 2). These stocks do not already have a catch limit in place for fishing year 2022. The groundfish regulations implement default catch limits for any stock for which final specifications are not in place by the beginning of the fishing year on May 1. The FMP's default specifications provision sets catch at 35 percent of the previous year's (2021) catch limits, except in instances where the default catch limit would exceed the Council's recommendation. The default catch limits are effective from May 1 through July 31, or until the final rule for Framework 63 is implemented if prior to July 31. To comply with these regulations and minimize impacts on the fishery we are announcing these default specifications. If Framework 63 is not in place on or before July 31, all fishing for these management units will be prohibited beginning August 1.

Catch Limit Changes for GB Cod

The previously set fishing year 2022 U.S. Acceptable Biological Catch (ABC) for GB cod is 1,308 mt, which will be in place on May 1. The Council recommended a fishing year 2022 US ABC of 343 mt for GB cod in Framework 63. This is a 74-percent decrease, which will go into effect after May 1 if Framework 63 is approved. The Council's recommendations will be further discussed in the Framework 63 proposed rule. We are highlighting this change in this rule because the GB cod sector allocations approved in this rule are based on the previously set 2022 catch limits. If the Council's recommended catch limits become final with no changes, the U.S. ABC and resulting sector allocations for this stock will be reduced when Framework 63 is implemented, and allocations will be changed in accordance with that reduction.

Table 1—Northeast Multispecies Catch Limits for 2022
Stock | Total U.S. ABC (mt) | Commercial groundfish sub-ACL (mt)
GB Cod * | 1,308 | 1,093.1
GOM Cod * | 552 | 270.4
GB Haddock * | 81,242 | 72,250.4
GOM Haddock | 11,526 | 7,055.9
GB Yellowtail Flounder * | 80 | 63.6
SNE/MA Yellowtail Flounder | 22 | 15.6
CC/GOM Yellowtail Flounder | 823 | 691.9
American Plaice | 2,825 | 2,630.1
Witch Flounder | 1,483 | 1,317.3
GB Winter Flounder | 608 | 563.2
GOM Winter Flounder | 497 | 280.9
SNE/MA Winter Flounder | 456 | 288.1
Redfish | 10,062 | 9,558.9
White Hake * | 2,147 | 2,019.3
Pollock | 16,812 | 14,134.7
N. Windowpane Flounder | 160 | 107.9
S. Windowpane Flounder | 384 | 42.9
Ocean Pout | 87 | 49.8
Atlantic Halibut | 101 | 73.4
Atlantic Wolffish | 92 | 85.6
* These catch limits are based on previously set fishing year 2022 specifications and will be replaced when the final rule for Framework 63 becomes effective, if approved.

Table 2—Default Catch Limits for 2022
Stock | Groundfish sub-ACL (mt)
Eastern GB Cod * | 66.7
Eastern GB Haddock * | 2,270.1
* These catch limits are based on default specifications and will be replaced when the final rule for Framework 63 becomes effective, if approved.

Operations Plan Submissions and Changes

Annually, we solicit operations plan submissions for consideration for approval; however, sectors already approved to operate in fishing years 2021 and 2022 were not required to submit operations plans for 2022. We did not receive any new operations plans for approval for fishing year 2022. As a result, there will be no additional sectors authorized to operate in fishing year 2022 beyond those previously approved.

Although no new operations plans were submitted we did receive several requests to modify existing sector operations plans that we are approving. Sectors may request changes to operations plans as needed to implement administrative changes to their operations. Several sectors requested changes related to electronic monitoring (EM), including adding audit model EM plans to their existing operations plans, updates to methods used to estimate discards, and revised language authorizing the sharing of confidential data to support EM program operations. Additionally, several sectors requested modifications that would add NMFS-approved maximized retention electronic monitoring (MREM) program language to their sector operations plans. The addition of MREM language would allow for a more seamless transition to MREM for sectors vessels should it be approved for operation for all sectors in fishing year 2022. Several sectors also requested operations plan modifications to add a description of a gear conflict reduction agreement that sector members have agreed to in order to limit gear conflicts between sector groundfish and lobster vessels. We are approving these changes to existing sector operations plans.

Sector Allocations for Fishing Year 2022

This rule makes 2022 ACE allocations to all sectors based on their preliminary 2022 sector rosters. These allocations are based on the May 1, 2022, ACL for each stock. Because sectors are operating under 2-year operations plans for fishing years 2021 and 2022, these allocations would allow vessels enrolled in sectors to operate under their existing operations plan, as approved.

For fishing year 2022, we set a deadline for sectors to submit preliminary sector rosters by February 28, 2022, in order to determine rosters for final rulemaking and allocations. However, rosters published in this rule may still not reflect the final ACE allocation for fishing 2022 because all permits enrolled in a sector, and the vessels associated with those permits, have until April 30, 2022, to withdraw from a sector and fish in the common pool for fishing year 2022. As a result, the total permits participating in sectors for fishing year 2022 could change from the preliminary rosters included in this rule, but such changes are expected to be minimal based on past fishing years.

We calculate the sector's allocation for each stock by summing its members' potential sector contributions (PSC) for a stock and then multiplying that total percentage by the available commercial sub-ACL for that stock. Table 3 shows the total PSC for each sector by stock for fishing year 2022. Tables 4 and 5 show the estimated allocations that each sector will receive, in pounds and metric tons, respectively, for fishing year 2022, based on their preliminary fishing year 2022 rosters. We provide the final allocations, to the nearest pound, to each sector based on their final May 1 rosters. We use these final allocations, along with later adjustments including ACE transfers, reductions for overages, or increases for carryover, to monitor sector catch. The common pool sub-ACLs are also included in each of these tables. The common pool sub-ACL is managed separately from sectors and does not contribute to available ACE for leasing or harvest by sector vessels.

We do not assign separate PSCs for the Eastern GB cod or Eastern GB haddock; instead, we assign each permit a PSC for the GB cod stock and GB haddock stock. Each sector's GB cod and GB haddock allocations are then divided into an Eastern ACE and a Western ACE, based on each sector's percentage of the GB cod and GB haddock ACLs. For example, if a sector is allocated 4 percent of the GB cod ACL, the sector is allocated 4 percent of the commercial Eastern U.S./Canada Area GB cod total allowable catch (TAC) as its Eastern GB cod. The Eastern GB haddock allocations are determined in the same way. These amounts are then subtracted from the sector's overall GB cod and haddock allocations to determine its Western GB cod and haddock ACEs. A sector may only harvest its Eastern GB cod and haddock ACEs in the Eastern U.S./Canada Area. A sector may also “convert,” or transfer, its Eastern GB cod or haddock allocation into Western GB allocation and fish that converted ACE outside the Eastern GB area.

We expect to finalize 2021 catch information for sectors in summer 2022. We will allow sectors to transfer fishing year 2021 ACE for two weeks upon our completion of year-end catch accounting to reduce or eliminate any fishing year 2021 overages. If necessary, we will reduce any sector's fishing year 2022 allocation to account for a remaining overage in fishing year 2021. Each year we notify the Council and sector managers of this deadline and announce this decision on our website at: https://www.fisheries.noaa.gov/species/northeast-multispecies.

BILLING CODE 3510-22-P

BILLING CODE 3510-22-C

Exemptions Previously Granted for Fishing Years 2021 and 2022

Previously Granted Exemptions for Fishing Years 2021 and 2022 (1-18)

We have already granted exemptions from the following requirements for fishing years 2021 and 2022, all of which have been requested and granted in previous years: (1) 120-day block out of the fishery required for Day gillnet vessels; (2) 20-day spawning block out of the fishery required for all vessels; (3) limits on the number of gillnets for Day gillnet vessels outside the GOM; (4) prohibition on a vessel hauling another vessel's gillnet gear; (5) limits on the number of gillnets that may be hauled on GB when fishing under a Northeast multispecies/monkfish DAS; (6) limits on the number of hooks that may be fished; (7) DAS Leasing Program length and horsepower restrictions; (8) prohibition on discarding; (9) gear requirements in the Eastern U.S./Canada Management Area; (10) prohibition on a vessel hauling another vessel's hook gear; (11) the requirement to declare an intent to fish in the Eastern U.S./Canada Special Access Program (SAP) and the Closed Area (CA) II Yellowtail Flounder/Haddock SAP prior to leaving the dock; (12) seasonal restrictions for the Eastern U.S./Canada Haddock SAP; (13) seasonal restrictions for the CA II Yellowtail Flounder/Haddock SAP; (14) sampling exemption; (15) prohibition on combining small-mesh exempted fishery and sector trips in southern New England (SNE); (16) extra-large mesh requirement to target dogfish on trips excluded from at-sea monitoring (ASM) in SNE and Inshore GB; (17) requirement that Handgear A vessels carry a Vessel Monitoring System (VMS) unit when fishing in a single broad stock area; and (18) limits on the number of gillnets for Day gillnet vessels in the GOM. We also approved an exemption from the 6.5-inch (16.5-cm) minimum mesh size requirement for trawl nets to allow a 5.5-inch (14.0-cm) codend on directed redfish trips, however, that exemption was eliminated in 2021 when we approved a new universal sector exemption for redfish as part of Framework Adjustment 61 (86 FR 40353; July 28, 2021). A detailed description of the previously granted exemptions and supporting rationale can be found in the applicable final rules identified in Table 6 below.

Table 6—Exemptions Previously Granted for Fishing Years 2020 and 2021
Exemptions | Rulemaking | Date of publication | Citation
1-2, 4-9 | Fishing Year 2011 Sector Operations Final Rule | April 25, 2011 | 76 FR 23076
10-11 | Fishing Year 2012 Sector Operations Final Rule | May 2, 2012 | 77 FR 26129
12-14 | Fishing Year 2013 Sector Operations Interim Final Rule | May 2, 2013 | 78 FR 25591
3, 15 | Fishing Years 2015-2016 Sector Operations Final Rule | May 1, 2015 | 80 FR 25143
16 | Framework 55 Final Rule | May 2, 2016 | 81 FR 26412
17 | Amendment 18 Final Rule | April 21, 2017 | 82 FR 18706
18 | Fishing Year 2018 Sector Operations Final Rule | May 1, 2018 | 83 FR 18965
Northeast Multispecies Federal Register documents can be found at http://www.greateratlantic.fisheries.noaa.gov/sustainable/species/multispecies/.

Exemption Requests Not Approved in Fishing Year 2022

For fishing year 2022, sectors requested a total of four new exemptions, two related to extra-large mesh gillnets and EM, and two related to MREM and existing universal exemptions. We are denying all new sector exemption requests for fishing year 2022. A detailed summary of the exemption requests and rationale for our denial of their approval is included in the preamble for the proposed rule for this action (87 FR 12416; March 4, 2022), and is not repeated here.

Comments and Responses

We received no comments on the proposed rule. As a result, this rule contains no comment summary or response to comments.

Changes From the Proposed Rule

The allocations published in the proposed rule were based on final fishing year 2021 sector rosters because we had not yet received preliminary rosters for the 2022 fishing year. The deadline for preliminary sector roster submissions for fishing year 2022 was February 28, 2022. The ACE allocated to each sector has been updated in the final rule to reflect preliminary sector enrollment for the 2022 fishing year.

The allocations outlined in the proposed rule were based on fishing year 2022 catch limits expected under Framework 63. Because Framework 63 will not be in place before May 1, 2022, this rule announces default specifications for two stocks that did not previously have fishing year 2022 catch limits, and bases 2022 allocations to sectors on previously established fishing year 2022 catch limits and those defaults. The ACE allocated to each sector has been updated in the final rule to reflect the previously established 2022 catch limits and default specifications.

There are no other changes from the proposed measures.

Classification

The NMFS Assistant Administrator has determined that this final rule is consistent with the Northeast Multispecies FMP, other provisions of the Magnuson-Stevens Act, and other applicable law.

There is good cause pursuant to 5 U.S.C. 553(d)(3) to waive the 30-day delay in effective date for this final rule. This action allocates ACE for fishing year 2022 to 16 groundfish sectors in the Northeast multispecies fishery. This rule could not be completed earlier because required deadlines for sectors to submit rosters, sector exemption requests, and other necessary information to NMFS do not allow for the development of a rule earlier in the year. We must have preliminary sector rosters for the upcoming fishing year in order to allocate preliminary ACE to sectors. Sectors are prohibited from fishing without ACE allocations, as such, timely implementation is necessary to ensure that sectors may fish at the start of the 2022 fishing year on May 1, 2022. If sectors were prohibited from fishing while waiting for the rule to take effect, there would be significant disruption to the fishery along with negative economic impacts and a reduced ability to achieve optimum yield, thus undermining the intent of the rule. Industry members and other stakeholders are aware of and familiar with this annual process and had an opportunity to comment on these procedures during the development and approval of Amendment 16. Stakeholders also expect this process to ensure these actions occur in a timely manner.

This action is exempt from the procedures of Executive Order (E.O.) 12866.

This final rule does not contain policies with Federalism or “takings” implications as those terms are defined in E.O. 13132 and E.O. 12630, respectively.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

Authority: 16 U.S.C. 1801 et seq.

Dated: April 21, 2022.
Samuel D. Rauch, III,
Deputy Assistant Administrator for Regulatory Programs, National Marine Fisheries Service.

[FR Doc. 2022-08901 Filed 4-26-22; 8:45 am]

BILLING CODE 3510-22-P